DEPARTMENT OF LABOR

Mine Safety and Health Administration

30 CFR Parts 56, 57, 60, 70, 71, 72, 75, and 90

[Docket No. MSHA-2023-0001]

RIN 1219-AB36

Lowering Miners' Exposure to Respirable Crystalline Silica and Improving Respiratory Protection

AGENCY: Mine Safety and Health Administration, Labor.

ACTION: Proposed rule; notice of public hearings.

SUMMARY: The Mine Safety and Health Administration (MSHA) will hold three public hearings on the proposed rule, Lowering Miners' Exposure to Respirable Crystalline Silica and Improving Respiratory Protection. The proposed rule was published on July 13, 2023 and is available at https://www.regulations.gov and MSHA's website at www.MSHA.gov. The proposed rule would amend MSHA's existing standards to better protect miners against occupational exposure to respirable crystalline silica, a carcinogenic hazard, and to improve respiratory protection for all airborne hazards.

DATES: Hearings will be held on the following dates: August 3, 2023, August 10, 2023, and August 21, 2023. The locations are listed in the SUPPLEMENTARY INFORMATION section of this document. Post-hearing comments must be received or postmarked by midnight (Eastern Time) on August 28, 2023.

ADDRESSES: All submissions must include RIN 1219-AB36 or Docket No. MSHA-2023-0001. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AB36 or Docket Id. No. MSHA-2023-0001, by any of the following methods:

• Federal E-Rulemaking Portal: https://www.regulations.gov. Follow the online instructions for submitting comments.

• Email: zzMSHA-comments@dol.gov. Include “RIN 1219-AB36” in the subject line of the message.

• Regular Mail: MSHA, Office of Standards, Regulations, and Variances, 201 12th Street South, Suite 4E401, Arlington, Virginia 22202-5450.

• Hand Delivery or Courier: MSHA, Office of Standards, Regulations, and Variances, 201 12th Street South, Suite 4E401, Arlington, Virginia, between 9:00 a.m. and 5:00 p.m. Monday through Friday, except Federal holidays. Before visiting MSHA in person, call 202-693-9440 to make an appointment. Special health precautions may be required.

• Facsimile: 202-693-9441. Include “RIN 1219-AB36” in the subject line of the message.

Information Collection Requirements. Comments concerning the information collection requirements of this proposed rule must be clearly identified with “RIN 1219-AB36” or “Docket No. MSHA-2023-0001,” and sent to MSHA by one of the methods previously explained.

Docket. For access to the docket to read comments and background documents, go to https://www.regulations.gov. The docket can also be reviewed in person at MSHA, Office of Standards, Regulations, and Variances, 201 12th Street South, Arlington, Virginia, between 9 a.m. and 5 p.m. Monday through Friday, except Federal holidays. Before visiting MSHA in person, call 202-693-9440 to make an appointment. Special health precautions may be required.

Email Notification. To subscribe to receive an email notification when MSHA publishes rulemaking documents in the Federal Register, go to https://public.govdelivery.com/accounts/USDOL/subscriber/new.

FOR FURTHER INFORMATION CONTACT: S. Aromie Noe, Director, Office of Standards, Regulations, and Variances, MSHA, at: silicanprm@dol.gov (email); 202-693-9440 (voice); or 202-693-9441 (facsimile). These are not toll-free numbers.

SUPPLEMENTARY INFORMATION: The public hearings provide industry, labor, and other interested parties with an opportunity to present oral statements, written comments, and other information on the proposed rule published on July 13, 2023 (88 FR 44852). In response to requests from the public, MSHA will hold a third public hearing on the Silica proposed rule, in addition to the two public hearings announced in the notice of proposed rulemaking. The Agency believes that the public would benefit from a third hearing which would allow the public an additional opportunity to present their views in a location accessible to miners, mine operators, and other members of the public.

Each of the three public hearings will begin at 9 a.m. local time and end after the last presenter speaks on the following dates:

Date | Location | Contact No.
August 3, 2023 | Mine Safety and Health Administration, 201 12th Street South (Room 7W202), Arlington, VA 22202 | 202-693-9440
August 10, 2023 | National Mine Health and Safety Academy, Auditorium (Room B102), 1301 Airport Road, Beckley, WV 25813 | 202-693-9440
August 21, 2023 | Denver Federal Center, Building 25, Lecture Hall (Room 1866), West 6th Avenue and Kipling Street, Denver, CO 80225 | 202-693-9440

The public hearings will begin with an opening statement from MSHA, followed by an opportunity for members of the public to make oral presentations. Speakers and other attendees may present information to MSHA for inclusion in the rulemaking record. The hearings will be conducted in an informal manner. Formal rules of evidence and cross examination will not apply.

A verbatim transcript of each of the proceedings will be prepared and made a part of the rulemaking record. Copies of the transcripts will be available to the public. MSHA will make the transcript of the hearings available at https://www.regulations.gov and on MSHA's website at https://arlweb.msha.gov/currentcomments.asp.

MSHA will accept post-hearing written comments and other appropriate information for the rulemaking record from any interested party, including those not presenting oral statements, received by midnight (Eastern Time) on August 28, 2023.

Pre-registration is not required to attend the hearings. Interested parties may attend the hearings virtually or in person. Additional information on how to attend the public hearings virtually or in-person will be available at https://www.msha.gov/regulations/rulemaking/silica. Interested parties who intend to present testimony at the hearings are asked to register in advance on MSHA's website at https://www.msha.gov/form/silica-hearings-registration. Speakers will be called in the order in which they are registered. Those who do not register in advance will have an opportunity to speak after all those who pre-registered have spoken. You may submit hearing testimony and documentary evidence, identified by docket number (MSHA-2023-0001), by any of the methods previously identified.

(Authority: 30 U.S.C. 811)

Dated: July 17, 2023.
Christopher J. Williamson,
Assistant Secretary of Labor for Mine Safety and Health.

[FR Doc. 2023-15592 Filed 7-25-23; 8:45 am]

BILLING CODE 4520-43-P